DEPARTMENT OF COMMERCE

National Oceanic and Atmospheric Administration

[I.D. 073102A]

Western Pacific Fishery Management Council; Public Meetings

AGENCY: National Marine Fisheries Service (NMFS), National Oceanic and Atmospheric Administration (NOAA), Commerce.

ACTION: Notice of public meetings.

SUMMARY: The Western Pacific Fishery Management Council’s (Council) Community Demonstration Project Program Advisory Panel (CDPP-AP) will meet to select and rank proposals to be recommended for Council review. The Advisory Panel will develop criteria, objectives and priorities for recommendation to the Council for a subsequent solicitation for the Community Demonstration Project Program.

DATES: The meetings will be held on August 21, 22, and 23, 2002. See SUPPLEMENTARY INFORMATION for specific dates, and times for the meetings.

ADDRESSES: The meeting will be held at the Council Office, 1164 Bishop Street, Suite 1400, Honolulu, HI; telephone: 808-522-8220.

FOR FURTHER INFORMATION CONTACT: Kitty M. Simonds, Executive Director; telephone: 808-522-8220.

SUPPLEMENTARY INFORMATION: On April 16, 2002 (67 FR 18512), proposals were solicited through the Federal Register for grants to support Community Demonstration Projects in the Western Pacific Area. The grants are authorized under section 111(b) of the Sustainable Fisheries Act of 1996, Public Law 104-297. Solicitation was closed on June 17, 2002, 5 p.m., Hawaii Time.

A meeting of the CDPP-AP is scheduled for August 22, 23, and 24, 2002, to review proposals and discuss the program.

At the meeting, the Advisory Panel will select proposals to be recommended for Council review. The Council or its designee will select proposals to be recommended for funding to the NMFS Grants Management Division. Successful applicants will be notified of their selection. Proposals not selected will be returned to the applicants. Successful applicants will participate in a Grant Workshop in Honolulu to complete their grant application.

The CDPP-AP will meet from 8 a.m., and as late as necessary to complete scheduled business. The order in which agenda items are addressed may change. The agenda for the CDPP-AP will include the items listed below:

August 22, 2002

1. Introductions

2. Report on the program implementation and workshops

3. Review selection criteria

4. Review of qualified proposals

August 23, 2002

1. Selection of proposals for recommendation to the Council

2. Program review

a. Development and review of objectives and priorities for the next solicitation

b. Review program eligibility criteria

c. Workshop and materials

d. Discussion and recommendations

August 24, 2002

1. Review and approval of Advisory Panel report

a. Memorandum of selection

b. Program review recommendations

Although other issues not contained in this notice may come before the Advisory Panel for discussion, in accordance with the Magnuson-Stevens Fishery Conservation and Management Act, those issues may not be the subject of formal action during the meeting. Action will be restricted to those issues specifically identified in this notice.

Special Accommodations

This meeting is physically accessible to people with disabilities. Requests for sign language interpretation or other auxiliary aids should be directed to Kitty M. Simonds, 808-522-8220 (voice) or 808-522-8226 (fax), at least 5 days prior to the meeting date.

Dated: July 31, 2002.
Theophilus R. Brainerd,,
Acting Director, Office of Sustainable Fisheries, National Marine Fisheries Service.

[FR Doc. 02-19690 Filed 8-2-02; 8:45 am]

BILLING CODE 3510-22-S